DEPARTMENT OF ENERGY

Federal Energy Regulatory Commission

[Docket Nos. CP05-132-000, PF04-15-000]

Dominion Cove Point LNG, LP; Notice of Site Visit

May 17, 2005.

On June 1, 2005, the Office of Energy Projects (OEP) staff will conduct a pre-certification site visit of Dominion Cove Point LNG, LP's (Dominion) proposed TL-532 pipeline loop in Calvert County, Maryland. The loop is one component of Dominion's Cove Point LNG Expansion Project proposed in Maryland, Pennsylvania and West Virginia.

We will view the BGE Alternative, State Route 4 Alternative and other variations that are being considered for the planned pipeline expansion. Examination will be by automobile and on foot. Representatives of Dominion will be accompanying the OEP staff.

All interested parties may attend. Those planning to attend must provide their own transportation. Those interested in attending should meet at 1 p.m. (EDT) in the parking lot/area of the Wal-Mart Shopping Center, 150 Solomons Island Road North, Prince Frederick, Maryland.

For additional information, please contact the Commission's Office of External Affairs at 1-866-208-FERC.

Magalie R. Salas,
Secretary.

[FR Doc. E5-2629 Filed 5-24-05; 8:45 am]

BILLING CODE 6717-01-P